DEPARTMENT OF HOMELAND SECURITY

Coast Guard

33 CFR Part 100

[Docket No. USCG-2024-0354]

Special Local Regulations; Marine Events Within the Captain of the Port Charleston

AGENCY: Coast Guard, DHS.

ACTION: Notification of enforcement of regulation.

SUMMARY: The Coast Guard will enforce special local regulations for the Low Country Splash event on May 18, 2024, to provide for the safety of life on navigable waterways during this event. Our regulation for marine events within the Captain of the Port Charleston identifies the regulated area for this event in Charleston and Mt. Pleasant, SC. During the enforcement periods, no person or vessel may enter, transit through, anchor in, or remain within the regulated area unless authorized by the Coast Guard Patrol Commander or a designated representative.

DATES: The regulations in 33 CFR 100.704 will be enforced from 7 a.m. through 11 a.m., on May 18, 2024, for the regulated are listed in Item No. 4 of Table 1 to § 100.704.

FOR FURTHER INFORMATION CONTACT: If you have questions about this notification of enforcement, call or email Marine Science Technician First Class Thomas J. Welker, Sector Charleston Waterways Management Division, U.S. Coast Guard; telephone 843-740-3184, email at Thomas.J.Welker@uscg.mil.

SUPPLEMENTARY INFORMATION: The Coast Guard will enforce special local regulations in 33 CFR 100.704 for the annual Low Country Splash event regulated area identified in Table 1 to § 100.704, Item No. 4, from 7 a.m. through 11 a.m. on May 18, 2024. This action is being taken to provide for the safety of life on navigable waterways during this swim event. Our regulation for Marine Events within the Captain of the Port Charleston, § 100.704, Table 1 to § 100.704, Item No. 4, specifies the location of the regulated area for the Low Country Splash which encompasses portions of the Wando River and Cooper River. Under the provisions of § 100.704(c), all persons and vessels are prohibited from entering the regulated area, except those persons and vessels participating in the event, unless they receive permission to do so from the Coast Guard Patrol Commander, or designated representative.

Under the provisions of § 100.704(c), spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: April 23, 2024.
F.J. DelRosso,
Captain, U.S. Coast Guard, Captain of the Port Charleston.

[FR Doc. 2024-09051 Filed 4-30-24; 8:45 am]

BILLING CODE 9110-04-P